DEPARTMENT OF THE INTERIOR

Bureau of Land Management

[NM-930-1430-ET; NMNM 102308]

Public Land Order No. 7427; Withdrawal of Public Lands and Federal Minerals for the Carlsbad Cave and Karst Area; New Mexico; Correction

AGENCY: Bureau of Land Management, Interior.

ACTION: Correction.

SUMMARY: This action corrects Public Land Order No. 7427, 65 FR 2423-2424, published January 14, 2000, as FR Doc. 00-937.

On page 2423, third column, paragraph 1, under the total areas described, which reads “8,970.59 acres in Eddy County,” is hereby corrected to read “8470.59 acres in Eddy County.”

Dated: January 27, 2000.
Carsten F. Goff,
Deputy State Director.

[FR Doc. 00-2698 Filed 2-4-00; 8:45 am]

BILLING CODE 4310-FB-M